NATIONAL CREDIT UNION ADMINISTRATION

Sunshine Act Meetings

TIME AND DATE: 10:00 a.m., Thursday, November 16, 2017.

PLACE: Board Room, 7th Floor, Room 7047, 1775 Duke Street (All visitors must use Diagonal Road Entrance), Alexandria, VA 22314-3428.

STATUS: Open.

MATTERS TO BE CONSIDERED:

1. Corporate Stabilization Fund Quarterly Report.

2. NCUA's Rules and Regulations, Corporate Credit Unions.

3. NCUA's 2018—2019 Operating Fund Budget.

4. Overhead Transfer Rate Methodology.

RECESS: 11:30 a.m.

TIME AND DATE: 11:45 a.m., Thursday, November 16, 2017.

PLACE: Board Room, 7th Floor, Room 7047, 1775 Duke Street, Alexandria, VA 22314-3428.

STATUS: Closed.

MATTERS TO BE CONSIDERED:

1. Supervisory Action. Closed pursuant to Exemptions (8), (9)(i)(B), and (9)(ii).

2. Supervisory Action. Closed pursuant to Exemptions (8), (9)(i)(B), and (9)(ii).

FOR FURTHER INFORMATION CONTACT: Gerard Poliquin, Secretary of the Board, Telephone: 703-518-6304

Gerard Poliquin,
Secretary of the Board.

[FR Doc. 2017-24711 Filed 11-9-17; 4:15 pm]

BILLING CODE 7535-01-P